DEPARTMENT OF TRANSPORTATION

Research and Special Programs Administration

Office of Hazardous Materials Safety; Notice of Applications for Modification of Exemption

AGENCY: Research and Special Programs Administration, DOT.

ACTION: List of Applications for Modification of Exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Applications have been separated from the new applications for exemptions to facilitate processing.

DATES: Comments must be received on or before January 10, 2002.

ADDRESS COMMENT TO: Records Center, Research and Special Programs, Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with Part 107 of the Federal hazardous materials transportation law (49 U.S.C. 5117(b); 49 CFR 1.53(b)).

Issued in Washington, DC, on December 17, 2001.
J. Suzanne Hedgepeth,
Director, Office of Hazardous Materials, Exemptions and Approvals.

Application No. | Docket No. | Applicant | Modification of exemption
3216-M
| Solvay Fluorides St. Louis, MO (See Footnote 1) | 3216
8215-M
| Olin Corp., Brass & Winchester, Inc. East Alton, IL (See Footnote 2) | 8215
10442-M | Kennedy Space Center Kennedy Space Center, FL (See Footnote 3) | 10442
10798-M
| Chemetall Foote Corporation Kings Mountain, NC (See Footnote 4) | 10798
10929-M
| Bulkmatic Transport Company Jersey City, NJ (See Footnote 5) | 10929
11185-M | Medical Waste Solutions, Inc. Gary, IN (See Footnote 6) | 11185
11770-M
| Gas Cylinder Technologies, Inc. Tecumseh, Ontario N8N 2M4 Canada (See Footnote 7) | 11770
11911-M | RSPA-97-2735 | Transfer Flow, Inc. Chico, CA (See Footnote 8) | 11911
11924-M | RSPA-97-2744 | Wrangler Corp., A Division of Lapoint Industries Auburn, ME (See Footnote 9) | 11924
12817-M | RSPA-01-10513 | Phibro-Tech, Inc. Fort Lee, NJ (See Footnote 10) | 12817

(1) To modify the exemption to authorize the transportation of a Division 2.3 material in non-DOT specifications multi-unit tank car tanks.

(2) To modify the exemption to authorize the addition of a Division 1.1D material and for Division 1.1A and 1.1D materials to be transported in a newly designed motor vehicle (trailer).

(3) To modify the exemption to authorize an alternative shipping paper and container marking description for the transportation of certain Division 1.3C waste explosive substances in specifically authorized packagings.

(4) To modify the exemption to authorize the transportation of a Division 4.2 and an additional Class 3 material in DOT Specification tank cars.

(5) To modify the exemption to authorize the transportation of additional Class 3 materials in DOT Specification tank cars.

(6) To modify the exemption to more accurately describe the non-DOT specifications bulk packaging used for the transportation of Division 6.2 materials.

(7) To modify the exemption to authorize an additional chemistry composition for the manufacture of non-DOT specification cylinders, comparable to DOT 3E, for the transportation of Division 2.1, 2.2 and 2.3 materials.

(8) To modify the exemption to authorize an increased water capacity range of 15-105 gallons for the non-DOT specification metal refueling tanks containing Class 3 materials and the inclusion of a 12-volt fuel pump system.

(9) To modify the exemption to authorize two additional DOT Specification containers for use as outer packaging for lab pack applications transporting various classes of hazardous wastes.

(10) To reissue the exemption originally issued on an emergency basis authorizing the reuse of Specification UN 1H1 non-removable head plastic drums for the transportation of certain Class 8 materials to Environmental Protection Agency licensed treatment, storage or disposal facilities.

[FR Doc. 01-31656 Filed 12-21-01; 8:45 am]

BILLING CODE 4910-60-M